DEPARTMENT OF HOMELAND SECURITY

Federal Emergency Management Agency

44 CFR Part 65

[Docket ID FEMA-2010-0003; Internal Agency Docket No. FEMA-B-1146]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: Cullman | City of Cullman (10-04-0559P) | June 1, 2010; June 8, 2010; The Cullman Times | The Honorable Max A. Towson, Mayor, City of Cullman, 204 2nd Avenue, Cullman, AL 35055 | October 6, 2010 | 010209
Colorado:
Gunnison | City of Gunnison (09-08-0466P) | June 10, 2010; June 17, 2010; The Gunnison Country Times | The Honorable Stu Ferguson, Mayor, City of Gunnison, 201 West Virginia Avenue, Gunnison, CO 81230 | October 15, 2010 | 080080
Gunnison | Unincorporated areas of Gunnison County (09-08-0466P) | June 10, 2010; June 17, 2010; The Gunnison Country Times | The Honorable Paula Swenson, Chairperson, Gunnison County Board of Commissioners, 200 East Virginia Avenue, Suite 104, Gunnison, CO 81230 | October 15, 2010 | 080078
Weld | Town of Miliken (09-08-0927P) | June 18, 2010; June 25, 2010; The Tribune | The Honorable L. Jane Lichtfuss, Mayor, Town of Milliken, P.O. Box 290, Milliken, Colorado 80543 | October 25, 2010 | 080187
Weld | Unincorporated areas of Weld County (09-08-0927P) | June 18, 2010; June 25, 2010; The Tribune | The Honorable Douglas Rademacher, Chairman, Weld County Board of Commissioners, P.O. Box 758, Greeley, CO 80632 | October 25, 2010 | 080266
Florida: Bay | City of Panama City (10-04-2741P) | June 25, 2010; July 2, 2010; The News-Herald | The Honorable Gayle Oberst, Mayor, City of Panama City Beach, 110 South Arnold Road, Panama City Beach, FL 32413 | November 2, 2010 | 120013
Nevada:
Clark | Unincorporated areas of Clark County (09-09-2398P) | June 10, 2010; June 17, 2010; Las Vegas Review-Journal | The Honorable Rory Reid, Chair, Clark County Board of Commissioners, 500 South Grand Central Parkway, Las Vegas, NV 89106 | June 28, 2010 | 320003
Clark | Unincorporated areas of Clark County (09-09-3102P) | June 10, 2010; June 17, 2010; Las Vegas Review-Journal | The Honorable Rory Reid, Chair, Clark County Board of Commissioners, 500 South Grand Central Parkway, Las Vegas, NV 89106 | October 15, 2010 | 320003
Clark | Unincorporated areas of Clark County (10-09-1718P) | June 24, 2010; July 1, 2010; Las Vegas Review-Journal | The Honorable Rory Reid, Chair, Clark County Board of Commissioners, 500 South Grand Central Parkway, Las Vegas, NV 89106 | June 16, 2010 | 320003
North Carolina:
Currituck | Unincorporated areas of Currituck County (09-04-5228P) | May 21, 2010; May 28, 2010; The Daily Advance | Mr. Daniel F Scanlon II, Currituck County Manager, 153 Courthouse Road, Currituck, NC 27929 | May 11, 2010 | 370078
South Carolina:
Richland | Unincorporated areas of Richland County (09-04-2521P) | May 28, 2010; June 4, 2010; The Columbia Star | The Honorable Paul Livingston, Richland County Council Chairman, 2020 Hampton Street, 2nd Floor, Columbia, SC 29202 | October 4, 2010 | 450170

(Catalog of Federal Domestic Assistance No. 97.022, “Flood Insurance.”)

Dated: December 3, 2010.
Sandra K. Knight,
Deputy Federal Insurance and Mitigation Administrator, Mitigation, Department of Homeland Security, Federal Emergency Management Agency.

[FR Doc. 2010-32902 Filed 12-29-10; 8:45 am]

BILLING CODE 9110-12-P